DEPARTMENT OF HOMELAND SECURITY

Coast Guard

33 CFR Part 165

[Docket No. USCG-2019-0425]

Safety Zones; Annual Events in the Captain of the Port Detroit Zone

AGENCY: Coast Guard, DHS.

ACTION: Notice of enforcement of regulation.

SUMMARY: The Coast Guard will enforce various safety zones for annual marine events in the Captain of the Port Detroit zone. Enforcement of these zones is necessary and intended to ensure safety of life on the navigable waters immediately prior to, during, and immediately after these fireworks events. During the aforementioned period, the Coast Guard will enforce restrictions upon, and control movement of, vessels in a specified area immediately prior to, during, and immediately after fireworks events. During each enforcement period, no person or vessel may enter the respective safety zone without permission of the Captain of the Port or his designated representative.

DATES: The regulations in 33 CFR 165.941, Table 1, will be enforced at various dates and times between 9:15 p.m. June 20, 2019 through 11 p.m. on September 1, 2019.

FOR FURTHER INFORMATION CONTACT: If you have questions on this document, call or email Tracy Girard, Prevention Department, telephone (313)568-9564, email Tracy.M.Girard@uscg.mil.

SUPPLEMENTARY INFORMATION: The Coast Guard will enforce the safety zones listed in 33 CFR 165.941, Table 1, Safety Zones; Annual Events in the Captain of the Port Detroit Zone, at the following dates and times for the following events:

(1) Bay-Rama Fish Fly Festival Fireworks, New Baltimore, MI. The safety zone listed in § 165.941, Table 1(3), will be enforced from 10 p.m. to 10:30 p.m. on June 20, 2019. In the case of inclement weather on June 20, 2019, this safety zone will be enforced from 10 p.m. to 10:30 p.m. on June 21, 2019.

(2) Sigma Gamma Fireworks, Grosse Pointe Farms, MI. The safety zone listed in § 165.941, Table 1(4), will be enforced from 10 p.m. to 10:30 p.m. on June 24, 2019. In the case of inclement weather on June 24, 2019, this safety zone will be enforced from 10 p.m. to 10:30 p.m. on June 25, 2019.

(3) Ford (formerly Target) Fireworks, Detroit, MI. The first safety zone, listed in § 165.941, Table 1(6)(A), will be enforced from 8 a.m. on June 21, 2019 to 8 p.m. on June 24, 2019. The second safety zone, listed in § 165.941, Table 1(6)(B), will be enforced from 6 p.m. to 11:55 p.m. on June 24, 2019. The third safety zone listed in § 165.941, Table 1(6)(C), will be enforced from 7 p.m. to 11:59 p.m. on June 25, 2019. In the case of inclement weather on the scheduled day, this safety zone will be enforced on June 25, 2019 until 11:59 p.m.

(4) Algonac Fireworks, Algonac, MI. The safety zone listed in § 165.941, Table 1(7), will be enforced from 10 p.m. to 10:30 p.m. on July 5, 2019. In the case of inclement weather on July 5, 2019, this safety zone will be enforced from 10 p.m. to 10:30 p.m. on July 6, 2019.

(5) Bay City Fireworks Festival, Bay City, MI. The safety zone listed in § 165.941, Table 1(8), will be enforced from 10 p.m. to 11 p.m. on July 4, July 5, and July 6, 2019. In the case of inclement weather on any scheduled day, this safety zone will be enforced from 10 p.m. to 11 p.m. on July 7, 2019.

(6) Caseville Fireworks, Caseville, MI. The safety zone listed in the § 165.941, Table 1(9), will be enforced from 9:45 p.m. to 10:30 p.m. on July 5, 2019.

(7) Ecorse Fireworks, Ecorse, MI. The safety zone listed in the § 165.941, Table 1(10), will be enforced from 9:30 p.m. to 10:30 p.m. on July 6, 2019. In the case of inclement weather on July 6, 2019, this safety zone will be enforced from 9:30 p.m. to 10:30 p.m. on July 7, 2019.

(8) Grosse Ile Fireworks, Grosse Ile, MI. The safety zone listed in the § 165.941, Table 1(11), will be enforced from 9:30 p.m. to 10:30 p.m. on July 6, 2019. In the case of inclement weather on July 6, 2019, this safety (a zone will be enforced from 9:30 p.m. to 10:30 p.m. on July 7, 2019.

(9) Grosse Pointe Farms Fireworks, Grosse Pointe Farms, MI. The safety zone listed in § 165.941, Table 1(12), will be enforced from 10 p.m. to 10:30 p.m. on June 29, 2019. In the case of inclement weather on June 29, 2019, this safety zone will be enforced from 10 p.m. to 10:30 p.m. on June 30, 2019.

(10) Grosse Pointe Yacht Club Fireworks, Grosse Pointe Shores, MI. The safety zone listed in § 165.941, Table 1(13), will be enforced from 10 p.m. to 10:30 p.m. on July 4, 2019. In the case of inclement weather on July 4, 2019, this safety zone will be enforced from 10 p.m. to 10:30 p.m. on July 5, 2019.

(11) Belle Maer Harbor Fireworks, Harrison Township, MI. The safety zone listed in § 165.941, Table 1(15), will be enforced from 10 p.m. to 10:30 p.m. on July 4, 2019. In the case of inclement weather on July 4, 2019, this safety zone will be enforced from 10 p.m. to 10:30 p.m. on July 5, 2019.

(12) Harrisville Fireworks, Harrisville, MI. The safety zone listed in § 165.941, Table 1(16), will be enforced from 10 p.m. to 10:30 p.m. on July 6, 2019. In the case of inclement weather on July 6, 2019, this safety zone will be enforced from 10 p.m. to 10:30 p.m. on July 7, 2019.

(13) Lexington Independence Festival Fireworks, Lexington, MI. The safety zone listed in § 165.941, Table 1(17), will be enforced from 10 p.m. to 10:30 p.m. on July 5, 2019. In the case of inclement weather on July 5, 2019, this safety zone will be enforced from 10 p.m. to 10:30 p.m. on July 6, 2019.

(14) Oscoda Township Fireworks, Oscoda, MI. The safety zone listed in § 165.941, Table 1(18), will be enforced from 10 p.m. to 10:30 p.m. on July 4, 2019. In the case of inclement weather on July 4, 2019, this safety zone will be enforced from 10 p.m. to 10:30 p.m. on July 5, 2019.

(15) Port Austin Fireworks, Port Austin, MI. The safety zone listed in § 165.941, Table 1(19), will be enforced from 10 p.m. to 10:30 p.m. on July 4, 2019. In the case of inclement weather on July 4, 2019, this safety zone will be enforced from 10 p.m. to 10:30 p.m. on July 5, 2019.

(16) Port Sanilac Fireworks, Port Sanilac, MI. The safety zone listed in § 165.941, Table 1(20), will be enforced from 10 p.m. to 11 p.m. on July 6, 2019. In the case of inclement weather on July 6, 2019, this safety zone will be enforced from 10 p.m. to 11 p.m. on July 7, 2019.

(17) St. Clair Fireworks, St. Clair, MI. The safety zone listed in § 165.941, Table 1(21), will be enforced from 10 p.m. to 10:45 p.m. on July 4, 2019. In the case of inclement weather on July 4, 2019, this safety zone will be enforced from 10 p.m. to 10:45 p.m. on July 5, 2019.

(18) St. Clair Shores Fireworks, St. Clair Shores, MI. The safety zone listed in § 165.941, Table 1(22), will be enforced from 9:15 p.m. to 9:45 p.m. on June 28, 2019. In the case of inclement weather on June 28, 2019, this safety zone will be enforced from 9:15 p.m. to 9:45 p.m. on June 29, 2019.

(19) Tawas Fireworks, Tawas, MI. The safety zone listed in § 165.941, Table 1(23), will be enforced from 10 p.m. to 11 p.m. on July 4, 2019. In the case of inclement weather on July 4, 2019, this safety zone will be enforced from 10 p.m. to 11 p.m. on July 5, 2019.

(20) Arenac Fireworks, Au Gres, MI. The safety zone listed in § 165.941, Table 1(24), will be enforced from 10 p.m. to 10:45 p.m. on July 6, 2019. In the case of inclement weather on July 6, 2019, this safety zone will be enforced from 10 p.m. to 10:45 p.m. on July 7, 2019.

(21) Port Huron Blue Water Festival Fireworks, Port Huron, MI. The safety zone listed in § 165.941, Table 1(27), will be enforced from 10 p.m. to 11 p.m. on July 18, 2019. In the case of inclement weather on July 18, 2019, this safety zone will be enforced from 10 p.m. to 11 p.m. on July 19, 2019.

(22) Detroit Symphony Orchestra Fireworks, Grosse Pointe Shores, MI. The safety zone listed in § 165.941, Table 1(28), will be enforced from 10 p.m. to 11 p.m. on July 12 and July 13, 2019. In the case of inclement weather on July 12 or July 13, 2019, this safety zone will be enforced from 10 p.m. to 11 p.m. on July 19, 2019.

(23) Trenton Fireworks, Trenton, MI. The safety zone listed in § 165.941, Table 1(29), will be enforced from 10 p.m. to 11 p.m. on July 4, 2019. In the case of inclement weather on July 4, 2019, this safety zone will be enforced from 10 p.m. to 11 p.m. on July 5, 2019.

(24) Marine City Maritime Days Fireworks, Marine City, MI. The safety zone listed in § 165.941, Table 1(33), will be enforced from 10 p.m. to 11 p.m. on August 2, 2019. In the case of inclement weather on August 2, 2019, this safety zone will be enforced from 10 p.m. to 11 p.m. on August 3, 2019.

(25) Catawba Island Club Fireworks, Catawba Island, OH. The safety zone listed in § 165.941, Table 1(41), will be enforced from 8 p.m. to 9:30 p.m. on July 5, 2019.

(26) Lakeside July 4th Fireworks, Lakeside, OH. The safety zone listed in § 165.941, Table 1(40), will be enforced from 9:45 p.m. to 10:15 p.m. on July 4, 2019 with an inclement weather date of July 5, 2019.

(27) Annual Labor Day Weekend Fireworks Show, Catawba Island, OH. The safety zone listed in § 165.941, Table 1(45), will be enforced from 8 p.m. to 9:30 p.m. on September 1, 2019.

(28) Put-In-Bay Fourth of July Fireworks, Put-In-Bay, OH. The safety zone listed in § 165.941, Table 1(36), will be enforced from 9 p.m. to 10:30 p.m. on July 4, 2019 with an inclement weather date of July 5, 2019.

(29) Huron Riverfest Fireworks, Huron, OH. The safety zone listed in § 165.941, Table 1(43), will be enforced between from 9:15 p.m. to 10:45 p.m. on July 12, 2019 with an inclement weather date of July 13, 2019.

(30) Freedom Festival, Luna Pier, MI. The safety zone listed in § 165.941, Table 1(38), will be enforced from 9 p.m. to 10:30 p.m. on June 29, 2019.

(31) Red, White and Blues Bang Fireworks, Huron, OH. The safety zone listed in § 165.941, Table 1(42), will be enforced between from 9:15 p.m. until 10:45 p.m. on July 6, 2019 with an inclement weather date of July 13, 2019.

(32) Washington Township Firefighters Summerfest, Toledo, OH. The safety zone listed in § 165.941, Table 1(35), will be enforced from 8 p.m. to 11 p.m. on June 22, 2019 with an inclement weather date of June 23, 2019.

(33) Toledo 4th Fireworks, Toledo, OH. The safety zone listed in § 165.941, Table 1(46), will be enforced from 8:30 p.m. to 10 p.m. on July 4, 2019 with an inclement weather date of July 5, 2019.

Under the provisions of § 165.23, entry into, transiting, or anchoring within these safety zones during the enforcement period is prohibited unless authorized by the Captain of the Port Detroit or his designated representative. Vessels that wish to transit through the safety zones may request permission from the Captain of the Port Detroit or his designated representative. Requests must be made in advance and approved by the Captain of Port before transits will be authorized. Approvals will be granted on a case by case basis. The Captain of the Port may be contacted via U.S. Coast Guard Sector Detroit on channel 16, VHF-FM or by calling (313) 568-9564. The Coast Guard will give notice to the public via Local Notice to Mariners and VHF radio broadcasts that the regulation is in effect.

This document is issued under authority of § 165.941, Table 1, and 5 U.S.C. 552 (a). If the Captain of the Port determines that any of these safety zones need not be enforced for the full duration stated in this document, he may suspend such enforcement and notify the public of the suspension via a Broadcast Notice to Mariners.

Dated: June 10, 2019.
Jeffrey W. Novak,
Captain, U.S. Coast Guard, Captain of the Port Detroit.

[FR Doc. 2019-12598 Filed 6-13-19; 8:45 am]

BILLING CODE 9110-04-P